DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is scheduled during two days: Saturday, April 26 and Wednesday, April 30, 2003.

ADDRESSES: (To be held in conjunction with the national “Sea Grant Week” Meetings April 26-30, 2003), Moody Gardens Hotel, Seven Hope Boulevard, Galveston, Texas 77554, Telephone: (409) 741-8484.

FOR FURTHER INFORMATION CONTACT: Dr. Francis M. Schuler, Designated Federal Official, National Sea Grant College program, National Oceanic and Atmospheric Administration, 1315 East-West Highway, Room 11837, Silver Spring, Maryland 20910, (301) 713-2445.

SUPPLEMENTARY INFORMATION: The Panel, which consists of a balanced representation from academia, industry, state government and citizens groups, was established in 1976 by section 209 of the Sea Grant Improvement Act (Pub. L. 94-461, 33 U.S.C. 1128). The Panel advises the Secretary of Commerce and the Director of the National Sea Grant College Program with respect to operations under the Act, and such other matters as the Secretary refers to them for review and advice. The agenda for the meeting is as follows:

Saturday, April 26, 2003

10 a.m. to 5 p.m.

Executive Committee Report.

NOAA/Sea Grant Update.

Sea Grant Association President's Report.

Program Evaluation.

New Panel Business.

Adjourn.

Wednesday, April 30, 2003

8:30 a.m. to 10 a.m.

National Sea Grant Office and Review Panel Wrap-up.

This meeting will be open to the public.

Dated: March 27, 2003.
Mark Brown,
Chief Financial Administrative Officer, Office of Oceanic and Atmospheric Research.

[FR Doc. 03-8269 Filed 4-3-03; 8:45 am]

BILLING CODE 3510-KA-M